DEPARTMENT OF AGRICULTURE

Animal and Plant Health Inspection Service

[Docket No. APHIS-2017-0016]

Animal Disease Traceability System; Public Meetings

AGENCY: Animal and Plant Health Inspection Service, USDA.

ACTION: Notice of public meetings.

SUMMARY: This is to inform the public of upcoming meetings regarding the Animal Disease Traceability (ADT) system. These regional meetings will let the Animal and Plant Health Inspection Service hear from the public, particularly from the cattle and bison sectors, about the successes and challenges of the current ADT framework and provide a venue for the exchange of ideas about ways to overcome these challenges and fill gaps in the existing system.

DATES: The meetings will be held on April 11, 13, and 20 and May 2, 4, 11, and 24, 2017, from 8 a.m. to 3 p.m. (local time) each day. We will accept written statements regarding the ADT system until May 31, 2017.

ADDRESSES: The public meetings will be held in the following locations:

• April 11: Tower Hotel Oklahoma City, 3233 Northwest Expressway, Oklahoma City, OK.

• April 13: USDA Center at Riverside, 4700 River Road, Riverdale, MD.

• April 20: Renaissance Nashville Hotel, 611 Commerce Street, Nashville, TN.

• May 2: Embassy Suites Minneapolis Airport, 7901 34th Avenue South, Bloomington, MN.

• May 4: Doubletree by Hilton Denver, 3203 Quebec Street, Denver, CO.

• May 11: Sacramento Marriott Rancho Cordova, 11211 Point East Drive, Rancho Cordova, CA.

• May 24: Hilton Garden Inn Billings, 2465 Grant Road, Billings, MT.

You may also submit written statements using one of the following methods:

• Federal eRulemaking Portal: Go to http://www.regulations.gov/#!docketDetail;D=APHIS-2017-0016.

• Postal Mail/Commercial Delivery: Send your comment to Docket No. APHIS-2017-0016, Regulatory Analysis and Development, PPD, APHIS, Station 3A-03.8, 4700 River Road, Unit 118, Riverdale, MD 20737-1238.

FOR FURTHER INFORMATION CONTACT: Dr. Sunny Geiser-Novotny, Cattle Health Staff/ADT Veterinarian, Surveillance, Preparedness, and Response Services, VS, APHIS, 2150 Centre Avenue, Building B, Mailstop 3E13, Room 3E97, Fort Collins, CO 80526, (970) 494-7372.

SUPPLEMENTARY INFORMATION: The Animal and Plant Health Inspection Service (APHIS) plans to hold public meetings to receive input, particularly from the cattle and bison sectors, on enhancing the current Animal Disease Traceability (ADT) system. The original ADT framework, as described in the January 6, 2013, final rule ¹ establishing the program, provided specific performance requirements for an intentionally flexible ADT system. This let States and individual producers use personally efficient methods to meet requirements to move their livestock between States.

¹ See https://www.regulations.gov/docket?D=APHIS-2009-0091.

These meetings will let APHIS hear from the public about the successes and challenges of the current ADT framework and let attendees brainstorm ideas about overcoming these challenges and finding ways to fill gaps in the existing system. Although APHIS is especially interested during these sessions to hear from cattle and bison industry members, we welcome participation from all members of the public.

Each meeting will start with an overview of the basic principles of ADT and progress made to date given by APHIS employees and a panel of State and industry representatives. A comment/question and answer session will follow. After a break for lunch, attendees will split off into breakout sessions to discuss challenge areas and come up with solutions. The entire group will reconvene to receive the highlights of the breakout sessions, and the meeting will end after some discussion of next steps and closing remarks.

If you are planning to attend a meeting, we ask that you register in advance by visiting http://www.aphis.usda.gov/animal-health/adt-meeting-registrations. Same-day registration will also be available at each meeting site. If you require special accommodations, such as a sign language interpreter, please call or write the individual listed under FOR FURTHER INFORMATION CONTACT. Written statements about the current ADT system may be filed at the meetings or by using one of the methods described under ADDRESSES above.

For the April 13, 2017, meeting in Riverdale, MD, picture identification will be required to gain access to the USDA Center at Riverside. Free parking is available next to the building. The nearest Metro station is the College Park station on the Green Line, which is within walking distance (about ⅔ of a mile). For the May 4, 2017, meeting in Denver, CO, there will be a free hotel shuttle to and from Denver International Airport.

Done in Washington, DC, this 30th day of March 2017.
Jere L. Dick,
Acting Administrator, Animal and Plant Health Inspection Service.

[FR Doc. 2017-06639 Filed 4-3-17; 8:45 am]

BILLING CODE 3410-34-P